DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention (CSAP) National Advisory Council will meet on August 12, 2015, 2 p.m.-3 p.m., via teleconference.

The meeting will include the review, discussion, and evaluation of grant applications reviewed by the Initial Review Group, and involve an examination of confidential financial and business information as well as personal information concerning the applicants. Therefore, these meetings will be closed to the public as determined by the SAMHSA Administrator, in accordance with Title 5 U.S.C. 552b(c)(4) and (c)(6) and (c)(9)(B); and 5 U.S.C. App. 2, Section 10(d).

Committee Name: Substance Abuse and Mental Health Services Administration; Center for Substance Abuse Prevention National Advisory Council.

Date/Time/Type: August 12, 2015 2 p.m.-3 p..m. (CLOSED).

Place: SAMHSA Building, 1 Choke Cherry Road, Rockville, MD 20857.

Contact: Matthew J. Aumen, Designated Federal Officer, SAMHSA/CSAP National Advisory Council, 1 Choke Cherry Road, Room 4-1068, Rockville, MD 20857, Email: Matthew.Aumen@samhsa.hhs.gov.

Cathy J. Friedman,
Public Health Analyst, SAMHSA.

[FR Doc. 2015-19416 Filed 8-6-15; 8:45 am]

BILLING CODE 4162-20-P